DEPARTMENT OF ENERGY

Federal Energy Regulatory Commission

[Docket No. CP05-32-001]

Northwest Pipeline Corporation; Notice of Amendment

February 11, 2005.

Take notice that on February 4, 2005, Northwest Pipeline Corporation (Northwest), 295 Chipeta Way, Salt Lake City, Utah 84158, filed in Docket No. CP05-32-001, an amendment to its pending application filed on November 29, 2004, pursuant to section 7 of the Natural Gas Act (NGA) for its capacity replacement project in Docket No. CP05-32-000, all as more fully set forth in the application which is on file with the Commission and open to public inspection. The filings may also be viewed on the Web at http://www.ferc.gov using the “eLibrary” link. Enter the docket number excluding the last three digits in the docket number field to access the document. For assistance, call (202) 502-3676 or TYY (202) 502-8659.

By this amendment, Northwest proposes minor changes to the originally filed scope of work at its Chehalis Compressor Station in Lewis County, Washington, and requests abandonment authority for two taps on its existing 26-inch line at the Camas Meter Station. Northwest states that the proposed changes will not have a significant effect on the project's costs.

Any questions regarding this amendment should be directed to Gary K. Kotter, Manager, Certificates and Tariffs—3F3, Northwest Pipeline Corporation, PO Box 58900, Salt Lake City, Utah 84158-0900. Telephone: (801) 584-7117, Fax: (801) 584-7764.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: March 4, 2005.

Magalie R. Salas,
Secretary.

[FR Doc. E5-670 Filed 2-17-05; 8:45 am]

BILLING CODE 6717-01-P